DEPARTMENT OF THE INTERIOR

National Park Service

[N6462; NPS-WASO-NAGPRA-NPS0040876; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH), has completed an inventory of human remains and associated funerary objects and has determined that there is a cultural affiliation between the human remains and associated funerary objects and Indian Tribes or Native Hawaiian organizations in this notice.

DATES: Repatriation of the human remains and associated funerary objects in this notice may occur on or after September 22, 2025.

ADDRESSES: Send written requests for repatriation of the human remains and associated funerary objects in this notice to Megan Fry, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing at least one individual from Culter Fossil Site (8DA2001) is present at the Florida Museum of Natural History. There are 257 associated funerary objects. A total of 11 associated funerary objects are housed in the Vertebrate Paleontology collections at FLMNH, and consist of fossil vertebrates, namely dentition from peccaries, dire wolves, and white-tailed deer, and skeletal elements of a mourning dove and a jaguar. The remaining 246 are housed in the Environmental Archaeology collection, at FLMNH, and include charred faunal bone, land shell, and coprolites. The site is a sinkhole which includes fossils from extinct and extant vertebrates. The site was heavily vandalized. Robert Carr, the archaeologist for Dade County, was able to recover most of the material which had been “shipped to different parts of the country”. He subsequently undertook a rescue excavation to record what information was still in situ. Cutler Fossil Site features evidence of human use dating to roughly 9,700 BP, lasting through the Archaic (5,000-2,500 BP) and into the Glades period (A.D. 1,000 BP-1750). Carr sent the various collection types from the site to differing institutions. The Ancestors were sent to the University of Massachusetts. The artifacts were sent to the Historical Museum of Southern Florida. The vertebrate paleontological material came to FLMNH. The Ancestors at FLMNH consist of a small collection of human dentition, which was likely overlooked or misidentified when they were separating out the collections and unintentionally sent to FLMNH with the paleontological material.

Cultural Affiliation

Based on the information available and the results of consultation, cultural affiliation is reasonably identified by the geographical location or acquisition history of the human remains and associated funerary objects described in this notice.

Determinations

The FLMNH has determined that:

• The human remains described in this notice represent the physical remains of one individual of Native American ancestry.

• The 257 objects described in this notice are reasonably believed to have been placed intentionally with or near individual human remains at the time of death or later as part of the death rite or ceremony.

• There is a connection between the human remains and associated funerary objects described in this notice and the Miccosukee Tribe of Indians; Seminole Tribe of Florida; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 22, 2025. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: August 13, 2025.
Melanie O'Brien,
Manager, National NAGPRA Program.

[FR Doc. 2025-16112 Filed 8-21-25; 8:45 am]

BILLING CODE 4312-52-P